DEPARTMENT OF AGRICULTURE

Food and Nutrition Service

7 CFR Part 272

[Docket No. FNS-2025-0006]

RIN 0584-AF19

Supplemental Nutrition Assistance Program: Rescission of Changes to Civil Rights Data Collection Methods

AGENCY: Food and Nutrition Service (FNS), Department of Agriculture (USDA).

ACTION: Notice of proposed rulemaking.

SUMMARY: FNS is proposing to rescind Supplemental Nutrition Assistance Program: Revision of Civil Rights Data Collection Methods regulations, issued as a final rule on December 14, 2023.

DATES: Comments must be received within 30 days of publication of this document in the Federal Register.

ADDRESSES: Comments must be submitted through the Federal eRulemaking portal at http://www.regulations.gov and should reference the docket number and the date and page number of this issue of the Federal Register. All comments submitted in response to this document will be included in the record and will be made available to the public. Please be advised that the identity of individuals or entities submitting comments will be made public on the internet at the address provided above. A plain language summary of this notice of proposed rule is available at https://www.regulations.gov in the docket for this rulemaking.

FOR FURTHER INFORMATION CONTACT: James C. Miller, Administrator, Food and Nutrition Service, at (703) 305-2060, or James.Miller@usda.gov with a subject line of “RIN 0584-AF19”.

SUPPLEMENTARY INFORMATION: FNS is proposing to rescind revisions to Supplemental Nutrition Assistance Program (SNAP) regulations that cover collecting and reporting race and ethnicity data by State agencies on persons receiving benefits from SNAP adopted by FNS on December 14, 2023, via 88 FR 86563, with an effective date of February 12, 2024, and codified in 7 CFR part 272. The regulation removed regulatory language that provides an example that State agencies might collect race and ethnicity data by observation (also referred to as “visual observation”) when participants do not voluntarily provide the information on the application form. Further, it prohibited using visual observation as a data collection method for race and ethnicity.

We propose to rescind the rule and seek comment on that proposal.

Procedural Matters

Executive Orders 12866 and 14192

As with the rule proposed for rescission, this rule does not meet the criteria of a “significant regulatory action” under Executive Order 12866, as supplemented by Executive Order 13563 and updated by Executive Order 14094. Therefore, the Office of Management and Budget (OMB) has not reviewed this rule under those orders.

This regulation is not an E.O. 14192 regulatory action.

Regulatory Flexibility Act

Under the Regulatory Flexibility Act (as amended by the Small Business Regulatory Enforcement Fairness Act (SBREFA) of 1996; 5 U.S.C. 601 et seq.), whenever a Federal agency is required to publish a notice of rulemaking for any proposed or final rule, it must prepare and make available for public comment a regulatory flexibility analysis that describes the effect of the rule on small entities (i.e., small businesses, small organizations, and small government jurisdictions). FNS has concluded and hereby certifies that this rule will not have a significant economic impact on a substantial number of small entities.

Unfunded Mandates Reform Act

This rule does not contain Federal mandates (under the regulatory provisions of Title II of the UMRA) for State, local and Tribal governments, or the private sector of $100 million or more in any one year. Thus, the rule is not subject to the requirements of sections 202 and 205 of the UMRA.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. FNS has determined that this rule has no intended impact on Tribal nations.

Paperwork Reduction Act

In accordance with the Paperwork Reduction Act of 1995 (44 U.S.C. 3501-3520), an agency may not conduct or sponsor, and a person is not required to respond to, a collection of information, unless the collection displays a currently valid Office of Management and Budget (OMB) control number. This proposed rule is deregulatory and so would not impose any additional information collection requirements.

E-Government Act Compliance

The Department is committed to complying with the E-Government Act, 2002 to promote the use of the internet and other information technologies to provide increased opportunities for citizen access to Government information and services, and for other purposes.

Federalism Summary Impact Statement

The proposed rule is deregulatory and has little effect on States and local governments, so FNS anticipates that this rule will not have implications for federalism. Therefore, under Section 6(b) of the Executive Order, a federalism summary is not required. States and local governments are invited to comment if they believe a federalism summary is necessary.

List of Subjects in 7 CFR Part 272

Civil rights, Claims, Grant programs— social programs, Reporting and recordkeeping requirements, Unemployment compensation, Wages.

Accordingly, the Food and Nutrition Service proposes to amend 7 CFR part 272 as follows:

PART 272—REQUIREMENTS FOR PARTICIPATING STATE AGENCIES

1. The authority citation for Part 272 continues to read as follows:

Authority: 7 U.S.C. 2011-2036.

2. Amend § 272.6 by revising paragraph (g) to read as follows:

§ 272.6 Nondiscrimination compliance.

* * * * *

(g) Data collection. The State agency must obtain racial and ethnic data on participating households in the manner specified by FNS. The application form must clearly indicate that the information is voluntary, that it will not affect the eligibility or the level of benefits, and that the reason for the information is to assure that program benefits are distributed without regard to race, color, or national origin. The State agency must develop alternative means of collecting ethnic and racial data on households, such as by observation during the interview, when the information is not provided voluntarily by the household on the application form.

* * * * *

James C. Miller,
Administrator.

[FR Doc. 2025-08797 Filed 5-15-25; 8:45 am]

BILLING CODE 3410-30-P